DEPARTMENT OF THE INTERIOR

Bureau of Land Management

[21XLLAKA01000 L1440000.EQ0000.241A; AA-095705]

Notice of Realty Action: Proposed Non-Competitive Lease of Public Land in the Nome Census Area, Alaska

AGENCY: Bureau of Land Management, Interior.

ACTION: Notice.

SUMMARY: The Bureau of Land Management (BLM), Anchorage Field Office proposes to offer a non-competitive lease of a 5.1 acre-parcel of public land in the Nome Census Area, Alaska, for commercial purposes. The lease would resolve an inadvertent, unauthorized use on the subject public land under the Federal Land Policy and Management Act of 1976 (FLPMA). The BLM Kobuk Seward Peninsula Resource Management Plan, approved in September 2008, does not exclude the subject parcel from the authorized officer's discretion to consider lease proposals in the subject area. If approved, the lease would be valid for twenty years.

DATES: Written comments may be submitted to the address in the ADDRESSES section. The BLM must receive your comments on or before August 27, 2021.

ADDRESSES: Send written comments concerning the lease to: Field Manager, Anchorage Field Office, 4700 BLM Road, Anchorage, Alaska 99503.

FOR FURTHER INFORMATION CONTACT: Thomas Sparks, Associate Field Manager, Bureau of Land Management, Anchorage Field Office at 907-443-2177. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM has determined that the parcel of land described below is suitable for consideration as a commercial lease under Section 302 of the FLPMA (43 U.S.C. 1732) and the implementing regulations at 43 CFR 2920.

The BLM proposes to offer a non-competitive lease of the parcel for $710.00 a year to Mr. Charles J. Reader for continued commercial operation of the Safety Sound Roadhouse. The subject parcel was inadvertently developed by the proposed lessee's father who believed his establishment was on an adjacent private parcel. The area has a long history of commercial occupancy and the lease would provide BLM with a reasonable option to resolve the use of the affected public lands. The land use rental is determined by the Appraisal and Valuation Service Office's (previously known as the Office of Valuation Services) minimum rental fee schedules for remote parcels of land in Alaska, dated April 1, 2015. The lands are validly selected by the State of Alaska under the Alaska Statehood Act. In accordance with Sec. 906(k) of the Alaska National Lands Conservation Act of December 2, 1980, the BLM has sought and received concurrence from the State of Alaska in the issuance of a proposed lease.

The subject parcel is situated in section 7, township 12 south, range 30 west, Kateel River Meridian, Alaska, approximately 21 miles east of Nome, Alaska, more particularly described as follows:

COMMENCING at corner No. 1, U.S. Survey No. 480, Alaska, a meander corner, as described in the Field Notes of the Dependent Resurvey of U.S. Survey No. 480, Alaska, officially filed on August 14, 2007;

THENCE, South 47°57′ East, on line 1-2, U.S. Survey No. 480, Alaska, a distance of 500.15 feet to a point not monumented, on the southerly right-of-way boundary of the Nome-Council Highway, identical, in part, with the northwest boundary of The Port Safety Roadhouse Trade Site, as shown on an unrecorded plat, signed on January 31, 2005, by George Krier, Registered Alaska Land Surveyor, LS-7323, and the POINT OF BEGINNING of the herein described parcel. From said POINT OF BEGINNING, the northerly corner of The Port Safety Roadhouse Trade Site, monumented with a ⅝ inch diameter rebar with aluminum cap, set by Krier in 2004, bears North 42°55′ East, a distance of 118.95 feet;

THENCE, South 47°57′ East, continuing on line 1-2, U.S. Survey No. 480, Alaska, a distance of 434.41 feet to corner No. 2, U.S. Survey No. 480, Alaska, as described in the Field Notes of the Dependent Resurvey of U.S. Survey No. 480, Alaska, officially filed on August 14, 2007;

THENCE, South 47°57′ East, a distance of 67.32 feet to a point not monumented on the southeast boundary of The Port Safety Roadhouse Trade Site. From this point, the easterly corner of The Port Safety Roadhouse Trade Site, monumented with a ⅝ inch diameter rebar with aluminum cap, set by Krier in 2004, bears North 45°00′ East, a distance of 46.56 feet;

THENCE, South 45°00′ West, on the southeast boundary of The Port Safety Roadhouse Trade Site, a distance of 221.44 feet to a ⅝ inch diameter rebar with aluminum cap, set by Michael T. Mowrer, Registered Alaska Land Surveyor, LS-6529, in 1988, as shown on the Record of Survey for Stan Sobocienski, recorded as Plat No. 89-7RS in the Cape Nome Recording District, Alaska, on October 5, 1989;

THENCE, South 45°00′ West, continuing on the southeast boundary of The Port Safety Roadhouse Trade Site, a distance of 262.67 feet to the southerly corner of The Port Safety Roadhouse Trade Site, monumented with a ⅝ inch diameter rebar with aluminum cap, set by Krier in 2004;

THENCE, North 39°45′ West, on the southwest boundary of The Port Safety Roadhouse Trade Site, a distance of 488.08 feet to the westerly corner of The Port Safety Roadhouse Trade Site, on the southerly right-of-way boundary of the Nome-Council Highway monumented with a ⅝ inch diameter rebar with aluminum cap, set by Krier in 2004;

THENCE, North 42°55′ East, on the southerly right-of-way boundary of the Nome-Council Highway, identical, in part, with the northwest boundary of The Port Safety Roadhouse Trade Site, a distance of 413.85 feet to the POINT OF BEGINNING containing 5.09 acres of land.

BASIS OF BEARINGS—South 47°57′ East, being the bearing from corner No. 1, U.S. Survey No. 480, Alaska, a meander corner, to corner No. 2, U.S. Survey No. 480, Alaska, referenced to the true meridian.

Based on the past use of the subject parcel for a commercial establishment by Mr. Charles J. Reader and his late father, it is the authorized officer's decision to offer the proposed commercial lease with appropriate terms and conditions to Mr. Charles J. Reader on a non-competitive basis because competitive bidding would represent an unfair competitive and economic disadvantage to Mr. Charles J. Reader. As noted above, the use of this parcel constitutes an inadvertent trespass that was discovered by BLM in 2005, along with an encroachment into the Alaska Department of Transportation (ADOT) road right-of-way. The Reader family has since worked with BLM to settle the trespass and entered into short term permits for their occupation of public lands, including the stipulation requiring the permit holder obtain an encroachment permit from ADOT. Subsequent to the BLM's receipt of a proposal to lease public lands by Mr. Charles J. Reader that complies with all applicable requirements set forth at 43 CFR 2920.5, processing of the proposed lease will take place in accordance with 43 CFR 2920.6 and other applicable regulations.

Information and documentation regarding processing of the lease proposal is available as described in ADDRESSES, and reference should be made to the National Environmental Policy Act (NEPA) analysis to be conducted under Environmental Assessment DOI-BLM-AK-A010-2020-0013-EA. The BLM will not make a final decision on the lease until all required analyses are completed. If authorized, the lease would be subject to provisions of the FLPMA, all applicable regulations of the Secretary of the Interior, including, but not limited to, 43 CFR part 2920, and to valid existing rights. The proposed lease would also be subject to the applicant obtaining an encroachment permit from the ADOT for the term of the lease, or written documentation from ADOT stating it concurs with the lease term. The land use permit and establishment of a land lease are consistent with the Kobuk Seward Peninsula Resource Management Plan approved in September 2008.

Upon publication of this notice in the Federal Register, the lands will be segregated from all other forms of appropriation under the public land laws, including the general mining laws, except for leasing under the mineral leasing laws, and disposals under the mineral material disposal laws.

Classification Comments: Interested persons may submit comments on the establishment of a land lease interest in these public lands. Comments on the classification is restricted to whether the lands are physically suited for the establishment of a land lease for commercial activities, whether the use is consistent with local planning and zoning, or if the use is consistent with State and Federal programs.

Interested persons may submit comments regarding the establishment of a land lease and whether the BLM followed proper administrative procedures in reaching the establishment of a land lease interest.

Only written comments submitted by postal service or overnight mail addressed to “Field Manager, BLM Anchorage Field Office, 4700 BLM Road, Anchorage, Alaska 99507” will be considered properly filed. Electronic mail, facsimile, or telephone comments will not be considered properly filed.

Before including your address, phone number, email address, or other personal identifying information in your comment, you should be aware that your entire comment, including your personal identifying information—may be made publicly available at any time. While you can ask us in your comment to withhold your personal identifying information from public review, we cannot guarantee that we will be able to do so.

Any adverse comments will be reviewed by the BLM Alaska State Director, who may sustain, vacate, or modify these realty actions. In the absence of any adverse comments, the decision will become effective August 27, 2021.

(Authority: 43 CFR 2920)

Chad B. Padgett,
State Director.

[FR Doc. 2021-16008 Filed 7-27-21; 8:45 am]

BILLING CODE 4310-JA-P